DEPARTMENT OF ENERGY

Federal Energy Regulatory Commission

[Docket Nos. GT01-17-000 and CP97-561-002]

Tennessee Gas Pipeline Company; Notice of Compliance Filing

May 3, 2001.

Take notice that on April 27, 2001, Tennessee Gas Pipeline Company (Tennessee), tendered for filing as part of its FERC Gas Tariff, Fifth Revised Volume No. 1, Eighth Revised Sheet No. 301 and Fourth Revised Sheet No. 401A, with an effective date of June 1, 2001.

Tennessee states that the referenced sheet is being filed to comply with the Commission's “Order Granting Abandonment Authority” issued in the captioned proceeding on December 19, 1997. In compliance with the Order, Tennessee has revised Article XXXI of the General Terms and Conditions of its Tariff to reflect the Commission-approved language regarding gathering affiliate abuse and to reflect a revision to the General Terms and Conditions Index of Provisions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11651 Filed 5-8-01; 8:45 am]

BILLING CODE 6717-01-M